DEPARTMENT OF THE INTERIOR

National Park Service

[NPS-WASO-NRSS-EQD-SSB-20715; PPWONRADE3, PPMRSNR1Y.NM000]

Information Collection Request Sent to the Office of Management and Budget (OMB) for Approval; National Park Service Institutional Animal Care and Use Committee (NPS IACUC) Amendment, Annual Review, Exhibition, and General Submission Forms

AGENCY: National Park Service, Interior.

ACTION: Notice; request for comments.

SUMMARY: We (National Park Service, NPS) are asking the Office of Management and Budget (OMB) to approve the Information Collection Request (IC) described below. This collection is set to expire on March 31, 2016. The NPS is requesting approval of a previously approved collection and two additional new forms that will be used by the Institutional Animal Care and use Committee (NPS IACUC/the Committee) to collect information from researchers, and to ensure compliance with the Animal Welfare Act (AWA), its regulations (AWAR) and standards, and the Interagency Research Animal Committee (IRAC) principles, for projects involving the use of vertebrate animals in research, teaching, and training. As required by the Paperwork Reduction Act of 1995 and as part of our continuing efforts to reduce paperwork and respondent burden, we invite the general public and other federal agencies to take this opportunity to comment on this IC. We may not conduct or sponsor, and a person is not required to respond to, a collection of information unless it displays a currently valid OMB Control Number.

DATES: To ensure that your comments on this ICR are considered, we must receive them on or before April 29, 2016.

ADDRESSES: Please direct all written comments on this ICR directly to the Office of Management and Budget (OMB) Office of Information and Regulatory Affairs, Attention: Desk Officer for the Department of the Interior, to OIRA_Submission@omb.eop.gov (email) or 202-395-5806 (fax); and identify your submission as 1024-0265 IACUC. Also send a copy to Phadrea Ponds, Information Collection Coordinator, National Park Service, 1201 Oakridge Drive, Fort Collins, CO 80525 (mail); or phadrea_ponds@nps.gov (email). Please reference Information Collection 1024-0265 in your email.

FOR FURTHER INFORMATION CONTACT: Aaron Smith, NPS IACUC Administrator by mail at Biological Resource Division, 1201 Oakridge Drive, Suite 200, Fort Collins, CO 80525 or aaron_d_smith@nps.gov (email). You may also contact Tracy Thompson at tracy_thompson@nps.gov (email). You may also access this ICR at www.reginfo.gov by using the OMB Control number (1024-0265).

I. Abstract: The NPS is requesting to renew a previously approved collection (OMB Control Number: 1024-0265) and have two additional forms approved. All research, teaching, and training projects involving vertebrate animals taking place on NPS territories must be approved by the NPS IACUC prior to their commencement. Principal Investigators (PI) are required to submit the completed General Submission, Annual Renewal, Amendment, BioBlitz/Field Study, or Concurrence Submission forms as required for approval to the NPS IACUC Office.

Under the provisions of the Animal Welfare Act, Interagency Research Animal Committee's U.S. Government Principles, and The NPS Organic Act, 16 U.S.C. a-1, individuals or agencies proposing research, teaching, or training activities involving vertebrate animals must have IACUC review and oversight of these activities. This collection will continue to gather information on these activities that will be conducted in NPS units for the NPS IACUC to meet these requirements.

II. Data:

OMB Control Number: 1024-0265.

Title: National Park Service Institutional Animal Care and Use Committee (NPS IACUC) Amendment, Annual Review, Exhibition, and General Submission Forms.

Form Numbers: 10-1301, General Submission Form; 10-1301A, Amendment Form; 10-1302, Annual Review Form; 10-1303, Concurrence Form; and 10-1304, BioBlitz Field Study Form.

Type of Request: Revision of a currently approved collection.

Affected Public: State and local governments; private businesses.

Respondent Obligation: Mandatory.

Frequency of Collection: One time; on occasion

Estimated Number of Responses: 230.

Estimated Annual Burden Hours: 140 hours.

Estimated Annual Reporting and Recordkeeping “Non-Hour Cost”: None.

III. Request for Comments: On January 13, 2016, we published a Federal Register notice (81 FR 1642) announcing that we would submit this IC to OMB for approval. Public comments were solicited for 60 days ending March 14, 2016. We did not receive any comments in response to that notice.

We again invite comments concerning this information collection on:

• Whether or not the collection of information is in accordance with the regulatory requirements;

• The accuracy of our estimate of the burden for this collection of information;

• Ways to enhance the quality, utility, and clarity of the information to be collected; and

• Ways to minimize the burden of the collection of information on respondents.

A Federal agency may not conduct or sponsor and a person is not required to respond to a collection of information unless it displays a currently valid OMB control number. Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: March 25, 2016.
Madonna L. Baucum,
Information Collection Clearance Officer, National Park Service.

[FR Doc. 2016-07167 Filed 3-29-16; 8:45 am]

BILLING CODE 4310-EH-P